DEPARTMENT OF THE INTERIOR

National Park Service

National Register of Historic Places; Notification of Pending Nominations and Related Actions

Nominations for the following properties being considered for listing or related actions in the National Register were received by the National Park Service before February 25, 2006.

Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by March 30, 2006.

John W. Roberts,
Acting Chief, National Register/National Historic Landmarks Program.

FLORIDA

Leon County

Lichgate on High Road, 1401 High Rd., Tallahassee, 06000211

KENTUCKY

Cumberland County

Baker, James, House, Columbia Rd., Burkesville, 06000212

Fayette County

Cadentown School, 705 Caden Ln., Lexington, 06000213

Russell School, 201 W. Fifth St., Lexington, 06000215

Mason County

Russell Theatre, 9 E. Third St., Maysville, 06000216

Oldham County

Wildwood Farm, 3901 Axton Ln., Skylight, 06000214

MISSOURI

Jefferson County

Rozier, Louis J. and Harriet, House, 322 W. Clement, DeSoto, 06000221

St. Louis County

Bopp, William, House (Kirkwood MPS), 12120 Old Big Bend Rd., Kirkwood, 06000218

Rockwood Court Apartments, 330 W. Lockwood, Webster Groves, 06000222

Wildwood House, 40 Dames Court, Ferguson, 06000234

St. Louis Independent City, Chouteau Building, 4030 Chouteau (also 1029 S. Vandeventer), St. Louis (Independent City), 06000220

Council Plaza, 300 S. Grand Blvd., 212 S. Grand Blvd., 310 S. Grand Blvd., St. Louis (Independent City), 06000217

NORTH CAROLINA

Edgecombe County

Batts House and Outbuildings, E side of U.S. 258 N, 2.05 mi. S of NC 1513 5098 U.S. 258 N, Tarboro, 06000226

Forsyth County

Dyer, James B. and Diana M., House, 1015 W. Kent Rd., Winston-Salem, 06000227

Gaston County

Loray Mill Historic District (Boundary Increase), Roughly bounded by S. Vance St., RR right-of-way, S. Hill St. and W. Franklin Blvd., Gastonia, 06000228

Person County

House of Wagstaff Farm, NE side NC 57, 1.4 mi. NW of jct. with NC 1300, Roxboro, 06000229

Polk County

Charlton Leland, 229 Greenville St., Saluda, 06000225

Scotland County

Evans, E. Hervey, House, 400 W. Church St., Laurinburg, 06000224

Wake County

Ivey, Rufus J., House, (Wake County MPS), 6115 Louisburg, Raleigh, 06000223

TENNESSEE

Giles County

Bodenham (Colored) School, 830 Gimlet Creek Rd., Bodeham, 06000219

UTAH

Davis County

First National Bank of Layton, 50 W. Gentile St., Layton, 06000232

Garfield County

Henderson, William Jasper, Jr., and Elizabeth, House, 87 N. Main St. (Kodachrome Hwy), Cannonville, 06000230

Uintah County

Siddoway, William and Emily, House, (Vernal—Maeser, Utah MPS), 1055 N. Vernal Ave., Vernal, 06000231

WISCONSIN

Grant County

Courthouse Square Historic District, Cherry, Jefferson, Madison, and Maple Sts., Lancaster, 06000233

A request for REMOVAL has been made for the following resource:

TENNESSEE

Williamson County

Pointer, Henry, House (Williamson County MRA), US 31 S of Thompsons Station Thomsons Station vicinity, 88000332

[FR Doc. E6-3745 Filed 3-14-06; 8:45 am]

BILLING CODE 4312-51-P